DEPARTMENT OF THE INTERIOR

National Park Service

Notice of Intent to Repatriate Cultural Items: San Diego Museum of Man, San Diego, CA; Correction

AGENCY: National Park Service, Interior.

ACTION: Notice; correction.

Notice is here given in accordance with the Native American Graves Protection and Repatriation Act (NAGPRA), 25 U.S.C. 3005, of the intent to repatriate cultural items in the possession of the San Diego Museum of Man, San Diego, CA, that meet the definition of “unassociated funerary objects” or “object of cultural patrimony” under 25 U.S.C. 3001.

This notice is published as part of the National Park Service's administrative responsibilities under NAGPRA, 25 U.S.C. 3003 (d)(3). The determinations in this notice are the sole responsibility of the museum, institution, or Federal agency that has control of the Native American cultural items. The National Park Service is not responsible for the determinations in this notice.

This notice corrects a Notice of Intent to Repatriate Cultural Items published in the Federal Register (73 FR 59653, October 9, 2008), which described 28 cultural items (26 unassociated funerary objects and 2 objects of cultural patrimony) that were culturally affiliated to the Tohono O'odham Nation of Arizona. Since publication, the Gila River Indian Community of the Gila River Indian Reservation, Arizona, has claimed one Wihosa mask, an object of cultural patrimony, used in the Navichu ceremony from Komatke, AZ. This object of cultural patrimony is described in a separate notice.

The notice published in the Federal Register (73 FR 59653, October 9, 2008) is replaced with the following:

The cultural items are 26 unassociated funerary objects and 1 object of cultural patrimony.

In 1959, cultural items were removed by M.J. Rogers from an abandoned Papago Village approximately four miles west of Covered Wells, Pima County, AZ, on the south side of Highway 86. The 26 unassociated funerary objects are 24 pottery sherds, 1 cockle shell fragment, and 1 metavolcanic stone (possibly rhyolite) scraper.

The 24 pottery sherds are reasonably believed to have been placed as part of a pottery sacrifice on graves covered with boulders. Based on consultation with a tribal representative of the Tohono O'odham Nation of Arizona, the cockle shell frament and metavolcanic stone scraper are also reasonably believed to be unassociated funerary objects.

In 1976, one medicine bundle container (dated to circa 1930) was acquired from Mrs. Martinez of Havanna Naka (Crow Hang) Village on what was called the Papago Reservation. The medicine bundle belonged to Mrs. Martinez' husband, a local medicine man.

Based on consultation with a tribal representative of the Tohono O'odham Nation of Arizona, the officials of the San Diego Museum of Man have reasonably determined that the one cultural item is an object of cultural patrimony used in important ceremonies of the O'odham people and could not have been alienated by a single individual.

Recorded information from museum records about the unassociated funerary objects and object of cultural patrimony states that all the items were located on traditional Papago (Tohono O'odham) land. Descendants of the O'odham people are members of the Tohono O'odham Nation of Arizona.

Officials of the San Diego Museum of Man have determined that, pursuant to 25 U.S.C. 3001 (3)(B), the 26 cultural items described above are reasonably believed to have been placed with or near individual human remains at the time of death or later as part of the death rite or ceremony and are believed, by a preponderance of the evidence, to have been removed from a specific burial site of a Native American individual. Officials of the San Diego Museum of Man also have determined that, pursuant to 25 U.S.C. 3001 (3)(D), the one cultural item described above has ongoing historical, traditional, or cultural importance central to the Native American group or culture itself, rather than property owned by an individual. Lastly, officials of the San Diego Museum of Man have determined that, pursuant to 25 U.S.C. 3001 (2), there is a relationship of shared group identity that can be reasonably traced between the unassociated funerary objects and object of cultural patrimony and the Tohono O'odham Nation of Arizona.

Representatives of any other Indian tribe that believes itself to be culturally affiliated with the unassociated funerary objects and object of cultural patrimony should contact Philip Hoog, Archaeology and NAGPRA Coordinator, San Diego Museum of Man, 1350 El Prado, Balboa Park, San Diego, CA 92101, telephone (619) 239-2001, before April 13, 2009. Repatriation of the unassociated funerary objects and object of cultural patrimony to the Tohono O'odham Nation of Arizona may proceed after that date if no additional claimants come forward.

The San Diego Museum of Man is responsible for notifying the Gila River Indian Community of the Gila River Indian Reservation, Arizona and Tohono O'odham Nation of Arizona that this notice has been published.

Dated: February 12, 2009
Sangita Chari,
Acting Manager, National NAGPRA Program.

[FR Doc. E9-5312 Filed 3-11-09; 8:45 am]

BILLING CODE 4312-50-S